DEPARTMENT OF STATE

[Delegation of Authority No. 485]

Delegation to the Assistant Secretary for Consular Affairs of Authorities Under the Hague Abduction Convention, International Child Abduction Remedies Act, and the International Child Abduction Prevention and Return Act

By virtue of the authority vested in the Secretary of State by the laws of the United States, including Section 1 of the State Department Basic Authorities Act, as amended (22 U.S.C. 2651a,) I hereby delegate the following authorities to the Assistant Secretary of State for Consular Affairs:

(1) To the extent authorized by law, and except as provided in paragraph (2) of this delegation, I hereby delegate to the Assistant Secretary of State for Consular Affairs all duties, responsibilities, authorities, and powers necessary to carry out the functions of Secretary of State under the Hague Convention on the Civil Aspects of International Child Abduction (Hague Abduction Convention) and United States Code, Title 22, Chapters 97 (International Child Abduction Remedies Act) and 98 (Sean and David Goldman International Child Abduction Prevention and Return Act of 2014), and to establish such form and prescribe such regulations as may be necessary and proper in order to perform those functions.

(2) There are hereby excluded from the functions delegated under paragraph (1) of this delegation the authorities and powers defined in Title 22, subsection 9122(d), paragraphs 5-8, (22 U.S.C. 9122(d)(5-8)).

(3) The functions delegated under paragraph (1) of this delegation include accepting accessions under the Hague Abduction Convention.

Any act, executive order, regulation, or procedure subject to, or affected by, this delegation shall be deemed to be such act, executive order, regulation, or procedure as amended from time to time. This delegation of authority replaces Delegation of Authority No. 172, which is hereby revoked. No other delegations of authority are affected by this delegation of authority.

The Secretary, the Deputy Secretary, or the Under Secretary for Management may exercise any function delegated by this delegation of authority.

Dated: June 8, 2020.
Michael R. Pompeo,
Secretary of State.

[FR Doc. 2020-15321 Filed 7-15-20; 8:45 am]

BILLING CODE 4710-43-P